DEPARTMENT OF ENERGY

Federal Energy Regulatory Commission

Combined Notice of Filings

Take notice that the Commission has received the following Natural Gas Pipeline Rate and Refund Report filings:

Filings Instituting Proceedings

Docket Numbers: CP14-232-000.

Applicants: Interstate Power & Light Company.

Description: Interstate Power & Light Company submits an application for a Limited Jurisdiction Blanket Certificate of Public Convenience and Necessity to engage in the Transportation of natural gas in interstate commerce etc.

Filed Date: 4/24/14.

Accession Number: 20140425-0031.

Comments Due: 5 p.m. e.t. 6/4/14.

Docket Numbers: RP14-1034-000.

Applicants: Gulf Crossing Pipeline Company LLC.

Description: Amendment to Neg Rate Agmt (Panda 624-2) to be effective 6/1/2014.

Filed Date: 6/2/14.

Accession Number: 20140602-5106.

Comments Due: 5 p.m. e.t. 6/16/14.

Docket Numbers: RP14-1035-000.

Applicants: Midcontinent Express Pipeline LLC.

Description: Removal of Expiring Agreements to be effective 8/1/2014.

Filed Date: 6/2/14.

Accession Number: 20140602-5165.

Comments Due: 5 p.m. e.t. 6/16/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP01-382-024.

Applicants: Northern Natural Gas Company.

Description: Northern Natural Gas Company submits for filing its annual report setting forth the Carlton Resolution buyout, surcharge and penalty dollars reimbursed to the Carlton Sourcers on their May reservation invoices for the 2013-2014 heating season,

Filed Date: 6/2/14.

Accession Number: 20140602-5102.

Comments Due: 5 p.m. e.t. 6/16/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2014.
Nathaniel J. Davis, Sr.,
Deputy Secretary.

[FR Doc. 2014-13368 Filed 6-6-14; 8:45 am]

BILLING CODE 6717-01-P